DEPARTMENT OF HEALTH AND HUMAN SERVICES

Centers for Disease Control and Prevention

National Institute for Occupational Safety and Health (NIOSH); Advisory Board on Radiation and Worker Health (ABRWH)

In accordance with section 10(a)(2) of the Federal Advisory Committee Act (Pub. L. 92-463), the Centers for Disease Control and Prevention announces the following committee meeting:

Name: Advisory Board on Radiation and Worker Health, National Institute for Occupational Safety and Health and Subcommittee for Dose Reconstruction and Site Profile Reviews (SDRSPR).

Subcommittee Meeting Time and Date: 9 a.m.-12 p.m., June 14, 2006.

Committee Meeting Times and Dates: 1 p.m.-5:45 p.m., June 14, 2006. 8:30 a.m.-6:15 p.m., June 15, 2006. 8:30 a.m.-5 p.m., June 16, 2006.

Public Comment Times and Dates: 4:15 p.m.-5:45 p.m., June 14, 2006. 1 p.m.-1:30 p.m., June 15, 2006. 5 p.m.-6:15 p.m., June 15, 2006.

Place: Marriott Metro Center, 775 12th Street, Washington, DC 20005. Phone 202.737.2200, Fax 202.347.5886.

Status: Open to the public, limited only by the space available. The meeting space accommodates approximately 75 people.

Background: The ABRWH was established under the Energy Employees Occupational Illness Compensation Program Act of 2000 to advise the President on a variety of policy and technical functions required to implement and effectively manage the new compensation program. Key functions of the Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Board to HHS, which subsequently delegated this authority to the CDC. NIOSH implements this responsibility for CDC. The charter was issued on August 3, 2001, renewed at appropriate intervals, and will expire on August 3, 2007.

Purpose: This board is charged with (a) Providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters To Be Discussed: The agenda for the Subcommittee meeting includes Selection of 6th Round of Individual Dose Reconstruction (DR) Cases; Completion of Review of 2nd and 3rd Round of DR Cases; and Completion of Procedures Review. The agenda for the Board meeting includes NIOSH and DOL Program Status Updates; Conflict of Interest; Ames SEC Petition; NIOSH Presentation on Partial Dose Reconstructions for Non-Presumtive Cancers Added to the SEC; Status and Planning for Upcoming SEC Petitions: Allied Chemical, S-50, LANL, and Harshaw; Discussion of Board's Use of Subcommittees and Working Groups; SC&A Report of SEC Review Procedures; SEC Petition Updates for Y-12, Rocky Flats, Nevada Test Site and Pacific Proving Ground; Site Profile Updates for: Savannah River Site, Hanford, and Nevada Test Site; Second Year Site Profiles; Finalization of Selection of 6th Round of Individual DR Cases; SC&A Initial Presentation of 4th Round of DR Cases; Finalization of Review of the 2nd and 3rd Rounds of Individual DR Cases; and Finalization of Report on Procedures Review; NIOSH Update on Program Issues: Bethlehem Steel Site Profile, Construction Workers, Site Profile Revision Activities, Quality Assurance/Quality Control, and Communications Initiative; Future Plans and Schedules.

The agenda is subject to change as priorities dictate. In the event an individual cannot attend, written comments may be submitted. Any written comments received will be provided at the meeting and should be submitted to the contact person below well in advance of the meeting.

For More Information Contact: Dr. Lewis V. Wade, Executive Secretary, NIOSH, CDC, 4676 Columbia Parkway, Cincinnati, Ohio 45226, telephone 513.533.6825, fax 513.533.6826.

The Director, Management Analysis and Services Office, has been delegated the authority to sign Federal Register notices pertaining to announcements of meetings and other committee management activities, for both CDC and the Agency for Toxic Substances and Disease Registry.

Dated: May 24, 2006.
Alvin Hall,
Director, Management Analysis and Services Office, Centers for Disease Control and Prevention.

FR Doc. E6-8586 Filed 5-31-06; 8:45 am]

BILLING CODE 4163-19-P